DEPARTMENT OF COMMERCE

National Oceanic and Atmospheric Administration

[I.D. 032101C]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings.

DATES: The Council and its advisory committees will meet April 9 through April 16, 2001. See SUPPLEMENTARY INFORMATION for specific dates and times.

ADDRESSES: All meetings will be held at the Anchorage Hilton Hotel, 500 W. Third Avenue, Anchorage, AK, unless otherwise noted.

Council address: North Pacific Fishery Management Council, 605 W. 4th Avenue, Suite 306, Anchorage, AK 99501-2252.

FOR FURTHER INFORMATION CONTACT: Council staff, (907) 271-2809.

SUPPLEMENTARY INFORMATION: The Council’s Advisory Panel meeting will begin on Monday, April 9, at 8 a.m., reconvening daily through Friday. The Council’s Scientific and Statistical Committee (SSC) meeting will begin on Monday, April 9, at 8 a.m., reconvening each day through Wednesday. The Council’s plenary session will begin on Wednesday, April 11, reconvening daily through Monday, April 16. All meetings are open to the public except executive sessions which may be held during the week at which the Council may discuss personnel issues and/or current litigation.

Council: The agenda for the Council’s plenary session will include the following issues. The Council may take appropriate action on any of the issues identified.

1. Reports:

(a) Executive Director's Report.

(b) State Fisheries Report by Alaska Dept. of Fish and Game.

(c) NMFS Management Report.

(d) Enforcement and Surveillance reports by NMFS and the U.S. Coast Guard.

2. Halibut Charter Individual Fishing Quotas (IFQ): Final Action.

3. Steller sea lion (SSL) measures:

(a) Status reports on analysis, alternatives, and independent scientific review.

(b) Review report of the SSL Reasonable and Prudent Alternative Committee and provide further direction.

(c) Discuss and provide recommendations for management measures for the second half of 2001.

4. American Fisheries Act:

(a) Initial review of a cooperative leasing proposal. Direction to staff.

(b) Review and comment on salmon bycatch inter-co-op agreement.

5. Gulf of Alaska Rationalization: Review committee report and provide further direction to staff.

6. Bering Sea/Aleutian Islands Crab Rationalization: Review committee report and provide further direction to staff.

7. Staff Tasking: Review current staff tasking and projects to be tasked; provide direction to staff.

Advisory Meetings

Advisory Panel: The agenda for the Advisory Panel will mirror that of the Council listed above, with the exception of the reports under Item 1.

Scientific and Statistical Committee: The Scientific and Statistical Committee will address the following issues:

1. Discussion of the review of the November 30, 2001 biological opinion addressing Steller sea lion/groundfish fishery interactions.

2. Steller sea lion measures listed under item 3 of the Council agenda noted above.

3. Halibut Charter IFQ analysis listed under item 2 of the Council agenda noted above.

Other Committee and Workgroup Meetings

Halibut Charter IFQ Industry Workgroup will meet Monday, April 9, at 8 a.m. in the Iliamna Room at the Anchorage Hilton Hotel to review the final Halibut Charter IFQ analysis and provide comments to the North Pacific Fishery Management Council.

Other committees and workgroups may hold impromptu meetings throughout the meeting week. Such meetings will be announced during regularly-scheduled meetings of the Council, Advisory Panel, and SSC, and will be posted at the hotel.

Although other issues not contained in this agenda may come before this Council for discussion, in accordance with the Magnuson-Stevens Fishery Conservation and Management Act, those issues may not be the subject of formal Council action during this meeting. Council action will be restricted to those issues specifically identified in the agenda listed in this notice.

Special Accommodations

These meetings are physically accessible to people with disabilities. Requests for sign language interpretation or other auxiliary aids should be directed to Helen Allen at (907) 271-2809 at least 7 working days prior to the meeting date.

Dated: March 21, 2001.
Richard W. Surdi,
Acting Director, Office of Sustainable Fisheries, National Marine Fisheries Service.

[FR Doc. 01-7430 Filed 3-23-01; 8:45 am]

BILLING CODE 3510-22-S